DEPARTMENT OF AGRICULTURE

U.S. Codex Office

Codex Alimentarius Commission: Meeting of the Codex Committee on Food Additives

AGENCY: U.S. Codex Office, USDA.

ACTION: Notice of public meeting and request for comments.

SUMMARY: The U.S. Codex Office is sponsoring a public meeting on March 3, 2026. The objective of the public meeting is to provide information and receive public comments on agenda items and draft U.S. position to be discussed at the 56th Session of the Codex Committee on Food Additives (CCFA) of the Codex Alimentarius Commission (CAC). CCFA will be held in Chongqing, China, from April 13-17, 2026. The U.S. Manager for Codex Alimentarius and the Under Secretary for Trade and Foreign Agricultural Affairs recognize the importance of providing interested parties the opportunity to obtain background information on the 56th Session of the CCFA and to address items on the agenda.

DATES: The public meeting is scheduled for March 3, 2026, from 1:00-3:00 p.m. ET.

ADDRESSES: The public meeting will take place via video teleconference only. Documents related to the 56th Session of the CCFA will be accessible via the internet at the following address: https://www.fao.org/fao-who-codexalimentarius/meetings/detail/en/?meeting=CCFA&session=56.

Dr. Daniel E. Folmer, U.S. Delegate to the 56th Session of the CCFA, invites interested U.S. parties to submit their comments electronically to the following email address: daniel.folmer@fda.hhs.gov. Comments should state that they relate to the activities of the 56th Session of the CCFA.

Registration: Attendees may register to attend the public meeting at the following link: https://www.zoomgov.com/meeting/register/20RXUe0_TRaBV08pCzggVw. After registering, you will receive a confirmation email containing information about joining the meeting.

For further information about the 56th Session of the CCFA, contact U.S. Delegate, Dr. Daniel Folmer, daniel.folmer@fda.hhs.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Codex Committee on Food Additives (CCFA) are:

(a) to establish or endorse permitted maximum levels for individual food additives;

(b) to prepare priority lists of food additives for risk assessment by the Joint Expert Committee on Food Additives;

(c) to assign functional classes to individual food additives;

(d) to recommend specifications of identity and purity for food additives for adoption by the Commission;

(e) to consider methods of analysis for the determination of additives in food; and

(f) to consider and elaborate standards or codes for related subjects such as the labelling of food additives when sold as such.

China hosts the CCFA. The United States attends the CCFA as a member country of Codex.

Issues To Be Discussed at the Public Meeting

Although the meeting agenda was not available at the time of publication of this notice, the following items are expected to be on the agenda for the 56th Session of the CCFA and will be discussed during the public meeting:

• Matters Referred by the Codex Alimentarius Commission and other subsidiary bodies

• Matters of Interest arising from international organizations and from the 100th Meeting of the Joint Expert Committee on Food Additives (JECFA)

• Proposed draft specifications for identity and purity of food additives arising from the 100th JECFA meeting

• Endorsement and/or revision of maximum levels for food additives and processing aids in Codex standards

• Alignment of the food additive provisions of commodity standards: Report of the electronic working group (EWG) on Alignment

• General Standard for Food Additives (GFSA): Report of the electronic working group (EWG) on the GSFA

• General Standard for Food Additives (GFSA): Proposals for new and/or revision of food additive provisions (replies to circular letter (CL) 2025/31-FA)

• Proposed draft revision to the Class Names and the International Numbering System for Food Additives (CXG 36-1989) (replies to circular letter (CL) 2025/30-FA)

• Proposals for additions and changes to the Priority List of Substances proposed for evaluation by JECFA (replies to CL 2025/32-FA)

• Discussion paper on divergence between the General Standard for Food Additives (GSFA), Codex commodity standards and other texts—Identification of outstanding issues

• Report of the electronic working group (EWG): Development of a standard for baker's yeast

• Report of the electronic working group (EWG): The project document for the development of a guideline for the conduct of food safety assessment of cell culture media components used in the production of cell-based foods

• Future work for CCFA (replies to circular letter (CL) 2025/28-FA)

• Other Business and Future Work

Public Meeting

At the March 3, 2026, public meeting, agenda items and draft U.S. positions will be described and discussed, and attendees will have the opportunity to pose questions and offer comments. Written comments may be offered at the meeting or sent to Dr. Daniel Folmer, U.S. Delegate to the 56th Session of CCFA, at daniel.folmer@fda.hhs.gov. Written comments should state that they relate to activities of the 56th Session of the CCFA.

Additional Public Notification

Public awareness of all segments of rulemaking and policy development is important. Consequently, the U.S. Codex Office will announce this Federal Register publication on-line through the USDA Codex web page located at: https://www.usda.gov/codex.

Done at Washington, DC, on January 13, 2026.
Julie A. Chao,
Deputy U.S. Manager for Codex Alimentarius.

[FR Doc. 2026-00794 Filed 1-15-26; 8:45 am]

BILLING CODE 3420-3F-P